Title 3—

The President

Proclamation 10582 of May 19, 2023

National Safe Boating Week, 2023

By the President of the United States of America

A Proclamation

Every year, nearly 100 million Americans go boating in our Nation's lakes, rivers, bays, and oceans—a number that surged during the pandemic, as more people sought peace outdoors. With summer now approaching, countless families are again drawn to the promise and possibility of time on the water. During National Safe Boating Week, we remind one another to be safe and responsible and to do all we can to prevent boating accidents and prepare for emergencies.

Whether fishing, sailing, canoeing, kayaking, jet skiing, or motor boating, safe boating starts with planning ahead. More than 10 percent of American households now own some kind of boat, and they should each make sure their vessel meets Federal safety standards. The civilian Coast Guard Auxiliary can send volunteers to examine boats for free and tell their owners how to improve safety. Free boating safety courses are available in all 50 States, and the Coast Guard Auxiliary and groups like America's Boating Club train people online and in-person in boat handling, marine navigation, engine maintenance, weather prediction, and more.

Simple things can be life-saving: life jackets, weather forecasts, maps—especially in unfamiliar areas—and emergency communications tools. Boating sober, without alcohol or drugs, is so important. And every boat operator should always wear their engine-cut-off switch lanyard in order to automatically stop the boat if they are thrown into the water.

Operating a boat is a serious thing, like driving a car. It demands attention and caution, even as it gives boaters a profound feeling of freedom and peace. This week, we thank the courageous members of the United States Coast Guard—along with the Federal, State, Tribal, and local partners—who sacrifice so much to protect boaters and help rescue those in need at a moment's notice. We should honor their work by each doing our own part to keep life on the water safe.

In recognition of the importance of safe boating practices, the Congress, by joint resolution approved on June 4, 1958 (36 U.S.C. 131), as amended, has authorized and requested the President to proclaim annually the 7-day period before Memorial Day weekend as “National Safe Boating Week.”

NOW, THEREFORE, I, JOSEPH R. BIDEN JR., President of the United States of America, do hereby proclaim May 20 through May 26, 2023, as National Safe Boating Week. I encourage all Americans who participate in boating activities to observe this occasion by learning more about safe boating practices and by taking advantage of boating safety education opportunities. I also encourage the Governors of the States and Territories, and appropriate officials of all units of government, to join me in encouraging boating safety in every community.

IN WITNESS WHEREOF, I have hereunto set my hand this nineteenth day of May, in the year of our Lord two thousand twenty-three, and of the Independence of the United States of America the two hundred and forty-seventh.

[FR Doc. 2023-11194

Filed 5-23-23; 8:45 am]

Billing code 3395-F3-P